DEPARTMENT OF COMMERCE

National Oceanic and Atmospheric Administration

RIN: 0648-XD42

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet November 4-9, 2007. The Council meeting will begin on Monday, November 5, at 9 a.m., reconvening each day through Friday, November 9. All meetings are open to the public, except a closed session will be held from 9 a.m. until 10 a.m. on Monday, November 4 to address litigation and personnel matters. The Council will meet as late as necessary each day to complete its scheduled business.

ADDRESSES: The meetings will be held at the Hyatt Regency Mission Bay, San Diego, CA 92109; telephone: (619) 224-1234.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Open Public Comment

C. Administrative Matters

1. Future Council Meeting Agenda Planning

2. West Coast Governors' Agreement on Ocean Health

3. Magnuson-Stevens Act Reauthorization Implementation

4. Fiscal Matters

5. Membership Appointments and Council Operating Procedures

6. Future Council Meeting Outlook, March Council Meeting Agenda, and Workload Priorities

D. Groundfish Management

1. NMFS Report

2. Exempted Fishing Permits for 2008

3. Stock Assessments and Rebuilding Analyses for 2009-10 Groundfish Fisheries

4. Management Recommendations for 2009-10 Groundfish Fisheries - Part I: Preliminary Range of Acceptable Biological Catch and Optimum Yields

5. Amendment 21: Intersector Allocation

6. Consideration of Inseason Adjustments for 2007 and 2008 Fisheries, Including Pacific Whiting Season Dates

7. Amendment 20: Trawl Rationalization Alternatives (Trawl Individual Quotas and Cooperatives)

8. Final Consideration of Inseason Adjustments

9. Management Recommendations for 2009-10 Groundfish Fisheries - Part II

E. Pacific Halibut Management

Changes to Catch Sharing Plan and 2008 Annual Regulations

F. Salmon Management

1. Preseason Salmon Management Schedule for 2008

2. Salmon Methodology Review

G. Coastal Pelagic Species Management

Pacific Sardine and Pacific Mackerel Management

SCHEDULE OF ANCILLARY MEETINGS
SUNDAY, NOVEMBER 4, 2007 |
Groundfish Management Team | 8 a.m.
Groundfish Advisory Subpanel | 10 a.m.
Budget Committee | 4 p.m.
MONDAY, NOVEMBER 5, 2007 |
Council Secretariat | 8 a.m.
Groundfish Advisory Subpanel | 8 a.m.
Groundfish Management Team | 8 a.m.
Scientific and Statistical Committee | 8 a.m.
Enforcement Consultants | 4:30 p.m.
Trawl Rationalization Information Briefing | 7 p.m.
TUESDAY, NOVEMBER 6, 2007 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Highly Migratory Species Advisory Subpanel | 8 a.m.
Highly Migratory Species Management Team | 8 a.m.
Scientific and Statistical Committee | 8 a.m.
WEDNESDAY, NOVEMBER 7, 2007 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Highly Migratory Species Advisory Subpanel | 8 a.m.
Highly Migratory Species Management Team | 8 a.m.
Coastal Pelagic Species Advisory Subpanel | 1 p.m.
Coastal Pelagic Species Management Team | 1 p.m.
Council Annual Banquet | 6 p.m.
THURSDAY, NOVEMBER 8, 2007 |
Council Secretariat | 7 a.m.
California State Delegation | 7 a.m.
Oregon State Delegation | 7 a.m.
Washington State Delegation | 7 a.m.
Coastal Pelagic Species Advisory Subpanel | 8 a.m.
Coastal Pelagic Species Management Team | 8 a.m.
Groundfish Advisory Subpanel | 8 a.m.
Groundfish Management Team | 8 a.m.
Enforcement Consultants | As Necessary
FRIDAY, NOVEMBER 9, 2007 |
Council Secretariat | 7 a.m.
California State Delegation | 7 a.m.
Oregon State Delegation | 7 a.m.
Washington State Delegation | 7 a.m.
Enforcement Consultants | As Necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: October 15, 2007.
Tracey L. Thompson,
Acting Director, Office of Sustainable Fisheries, National Marine Fisheries Service.

[FR Doc. E7-20589 Filed 10-18-07; 8:45 am]

BILLING CODE 3510-22-S